DEPARTMENT OF AGRICULTURE

Forest Service

Lake County Resource Advisory Committee

AGENCY: Forest Service, USDA.

ACTION: Notice of meeting.

SUMMARY: The Lake County Resource Advisory Committee (RAC) will hold a meeting.

DATES: The meeting will be held on March 20, 2003, from 3:30 P.M. to 6 P.M.

ADDRESSES: The meeting will be held at the Lake County Board of Supervisor's Chambers at 255 North Forbes Street, Lakeport.

FOR FURTHER INFORMATION CONTACT: Debbie McIntosh, Committee Coordinator, USDA, Mendocino National Forest, Upper Lake Ranger District, 10025 Elk Mountain Road, Upper Lake, CA 95485. (707) 275-23612; EMAIL dmcintosh@fs.fed.us.

SUPPLEMENTARY INFORMATION: Agenda items to be covered include: (1) Roll Call/Establish Quorum; (2) Review and Approval of the Minutes of the September 19, 2002 Meeting; (3) Finalize business for 2002; (4) Discuss excess funds from 2001 projects; (5) Financial Agreements for RAC Projects not Performed by Forest Service; (6) Mendocino County Representatives; (7) Recommend Projects for 2003; (8) Discussion on Next Meeting Date; (10) Public Comment period. The meeting is open to the public. Public input opportunity will be provided and individuals will have the opportunity to address the Committee at that time.

Dated: February 7, 2003.
Blaine P. Baker,
Designated Federal Officer.

[FR Doc. 03-3578 Filed 2-12-03; 8:45 am]

BILLING CODE 3410-11-M